DEPARTMENT OF THE INTERIOR

Bureau of Indian Affairs

[178A2100DD/AAKC001030/A0A51010.999900]

Proclaiming Certain Lands as Reservation for the Lac Courte Oreilles Band of Lake Superior Chippewa Indians of Wisconsin

AGENCY: Bureau of Indian Affairs, Interior.

ACTION: Notice.

SUMMARY: This notice informs the public that the Acting Assistant Secretary—Indian Affairs proclaimed approximately 2012.77 acres, more or less, an addition to the reservation of the Lac Courte Oreilles Band of Lake Superior Chippewa Indians on July 21, 21017.

FOR FURTHER INFORMATION CONTACT: Ms. Sharlene M. Round Face, Bureau of Indian Affairs, Division of Real Estate Services, 1849 C Street NW., MS-4642-MIB, Washington, DC 20240, telephone (202) 208-3615.

SUPPLEMENTARY INFORMATION: This notice is published in the exercise of authority delegated by the Secretary of the Interior to the Assistant Secretary—Indian Affairs by part 209 of the Departmental Manual.

A proclamation was issued according to the Act of June 18, 1934 (48 Stat. 986; 25 U.S.C. 5110) for the lands described below. These lands are proclaimed to be part of the Lac Courte Oreilles Band of Lake Superior Chippewa Indians of Wisconsin Reservation, in Sawyer County, Wisconsin.

Fourth Principal Meridian

Sawyer County, Wisconsin

Legal Description Containing 2012.77 Acres, More or Less

T. 40 N., R. 6 W.,

Sec. 8, that part of the SW¼SE¼ lying above elevation 1315 ft., Mean Sea Level Datum, 1929 adjustment.—27.34 acres

Sec. 10, NW¼SW¼.—40.00 acres

Sec. 17, that part of the NW¼NE¼ and the SW¼NE¼ lying above elevation 1315 ft., Mean Sea Level Datum, 1929 adjustment.—28.00 acres

Sec.18, that part of the SW¼SE¼ lying above elevation 1315 ft., Mean Sea Level Datum, 1929 adjustment.—20.00 acres

Sec. 21, that part of the SW1/4 lying westerly of the west line of the Chippewa Reservoir Flowage, laying above elevation 1315 ft., Mean Sea Level Datum, 1929 adjustment.—73.90 acres

Sec. 28, that part of the NW¼, NW¼SE¼, and the SE¼ SE¼, lying above elevation 1315 ft., Mean Sea Level Datum, 1929 adjustment.—86.23 acres

Sec 32, that part SE¼ and the S½NE¼ lying above elevation 1315 ft., Mean Sea Level Datum, 1929 adjustment.—123.55 acres

T. 40 N., R. 7 W.,

Sec. 24, that part of the SW¼NW¼, the NW¼SW¼, and the NE¼SW¼, more particularly described as Lots One (1) and Two (2) as recorded in Volume Twenty (20) of Certified Survey Maps, pages 225-227, Survey No. 5858.—26.00 acres

Sec. 26, that part of the NE¼ and the E½NW¼, lying southerly of the south line of the Chippewa Reservoir Flowage and lying above elevation 1315 ft., Mean Sea Level Datum, 1929 adjustment.—104.35 acres

Sec. 27, that part of the S½NE¼, NE¼NE¼, SE¼NW¼, and the SW¼ lying above elevation 1315′, Mean Sea Level Datum, 1929 adjustment.—102.43 acres

Sec. 28, that part of the NW¼NW¼, S½NW¼, N½SW¼, and the SW¼SW¼ lying above elevation 1315′, Mean Sea Level Datum, 1929 adjustment, AND that part of the N½SE¼SW¼, lying westerly of the west flowage line of the Chippewa Reservoir Flowage and lying above elevation 1315′, Mean Sea Level Datum, 1929 adjustment.—74.17 acres

Sec.29, that part of the E½NE¼ lying easterly of the most easterly flowage line of the Chippewa Reservoir Flowage and lying above elevation 1315′, Mean Sea Level Datum, 1929 adjustment, AND that part of the S½S½ and the NE¼SE¼, lying above elevation 1315 ft., Mean Sea Level Datum, 1929 adjustment.—130.66 acres

Sec. 30, that part of Lot 1, the SW¼SE¼, and the SE¼SE¼ lying above elevation 1315′, Mean Sea Level Datum, 1929 adjustment, AND that part of the NE¼SE¼ lying southerly of the most southern flowage line of the Chippewa Reservoir Flowage, lying above elevation 1315 ft., Mean Sea Level Datum, 1929 adjustment.—43.01 acres

Sec. 31, that part of Lots 1, 2, 3 and 4 lying above elevation 1315 ft., Mean Sea Level Datum, 1929 adjustment.—150.25 acres

Sec. 33, that part of the SW¼NE¼, the SW¼NW¼ and the SE¼ lying above elevation 1315′, Mean Sea Level Datum, 1929 adjustment—86.78 acres

Sec. 34, that part of the E½NW¼ and the SW¼ lying above elevation 1315′, Mean Sea Level Datum, 1929 adjustment.—104.10 acres

T. 40 N., R. 8 W.,

Sec. 16, NE¼NE¼, W½NE¼, NE¼SW¼, and E ½NW¼.—240.00 acres

T. 41 N., R. 8 W.,

Sec. 33, NE¼, NW¼, SW¼, EXCEPT that deeded to Sawyer County for highway purposes as described in Vol. 382 of Records, Page 172.—472.00 acres

Sec. 35, S½SW¼. 80.00 acres

Situated in Sawyer County, State of Wisconsin. Containing 2012.77 acres, more or less.

The above-described lands contain a total of 2012.77 acres, more or less, which are subject to all valid rights, reservations, rights-of-way, and easements of record.

This proclamation does not affect title to the lands described above, nor does it affect any valid existing easements for public roads and highways, public utilities and for railroads, and pipelines, and any other valid easements or rights-of-way or reservations of record.

Dated: July 21, 2017.
Michael S. Black,
Acting Assistant Secretary—Indian Affairs.

[FR Doc. 2017-18854 Filed 9-5-17; 8:45 am]

BILLING CODE 4337-15-P